ENVIRONMENTAL PROTECTION AGENCY

40 CFR Part 49

[EPA-R09-OAR-2013-0009; FRL-9825-3]

Approval of Air Quality Implementation Plans; Navajo Nation; Regional Haze Requirements for Navajo Generating Station; Notice of Intent To Hold Public Hearings

AGENCY: Environmental Protection Agency (EPA).

ACTION: Notice of intent to hold public hearings.

SUMMARY: On February 5, 2013, EPA proposed a Best Available Retrofit Technology (BART) determination for emissions of oxides of nitrogen (NOX) from the Navajo Generating Station (NGS), located on the Navajo Nation. EPA provided a three-month period for public comments, to close on May 6, 2013. The Navajo Nation, Gila River Indian Community, and other affected stakeholders requested a 90-day extension of the comment period to allow time for stakeholders to develop an alternative to EPA's proposed BART determination that achieves greater reasonable progress. On March 19, 2013, EPA extended the close of the public comment period to August 5, 2013. EPA is providing notice of our intent to hold five public hearings to accept written and oral comments on the proposed BART determination for NGS.

DATES: EPA will announce dates and locations for the public hearings at a later time in the Federal Register, on our Web site, and in the docket for this proposed rulemaking.¹ Comments on the proposed BART determination for NGS must be postmarked no later than August 5, 2013.

¹ See http://www.epa.gov/region9/air/navajo/index.html#proposed and http://www.regulations.gov/#!docketDetail;D=EPA-R09-OAR-2013-0009.

ADDRESSES: The public hearings will be held at various locations in Indian country and in the state of Arizona. Please see the section on SUPPLEMENTARY INFORMATION for more details.

FOR FURTHER INFORMATION CONTACT: Anita Lee, EPA Region 9, (415) 972-3958, r9ngsbart@epa.gov.

SUPPLEMENTARY INFORMATION: EPA intends to hold public hearings at one location each on the Navajo Reservation, on the Hopi Reservation, and in Page, Phoenix, and Tucson, Arizona. These hearings will provide interested parties the opportunity to present facts, views, or arguments concerning the proposed rule requiring NGS to meet emission limits for NOX, required under the BART provision of the Regional Haze Rule, in order to reduce visibility impairment resulting from NGS at 11 National Parks and Wilderness Areas.

Written statements and supporting information submitted during the comment period will be considered with the same weight as any oral comments and supporting information presented at the public hearing. Written comments must be postmarked on or before the last day of the comment period, August 5, 2013.

If you are unable to attend the hearing but wish to submit comments on the proposed rule, you may submit comments, identified by docket number EPA-R09-OAR-2013-0009, by one of the following methods:

(1) Federal eRulemaking Portal: www.regulations.gov. Follow the on-line instructions.

(2) Email: r9ngsbart@epa.gov.

(3) Mail or deliver: Anita Lee (Air-2), U.S. Environmental Protection Agency Region 9, 75 Hawthorne Street, San Francisco, CA 94105-3901.

For more detailed instructions concerning how to submit comments on this proposed rule, and for more information on our proposed rule, please see the notice of proposed rulemaking, published in the Federal Register on February 5, 2013 (78 FR 8274).

List of Subjects in 40 CFR Part 49

Environmental protection, Air pollution control, Indians, Intergovernmental relations, Nitrogen dioxide.

Dated: June 10, 2013.
Deborah Jordan,
Air Division Director, Region 9.

[FR Doc. 2013-14630 Filed 6-18-13; 8:45 am]

BILLING CODE 6560-50-P